DEPARTMENT OF TRANSPORTATION

Federal Motor Carrier Safety Administration

Inspection, Repair, and Maintenance; Periodic Inspection of Commercial Motor Vehicles

AGENCY: Federal Motor Carrier Safety Administration (FMCSA), DOT.

ACTION: Notice on State periodic inspection programs.

SUMMARY: The FMCSA announces its acceptance of the State of Massachusetts' periodic inspection (PI) program for commercial motor vehicles (CMVs). The Agency has reviewed the State's inspection program for CMVs and determined that it should be added to the list of programs which have been determined to be comparable to, or as effective as, the Federal PI requirements contained in the Federal Motor Carrier Safety Regulations (FMCSRs). The State requires CMVs to be inspected annually or within 7 days of registration for newly acquired vehicles. The agency has published a list of such programs in the Federal Register previously, and this list has been revised occasionally. Including Massachusetts, 22 States, the Alabama Liquefied Petroleum Gas Board, the District of Columbia, 10 Canadian Provinces, and one Canadian Territory have PI programs which have been determined to be comparable to, or as effective as, the Federal PI requirements.

DATES: This action is effective on October 22, 2008.

FOR FURTHER INFORMATION CONTACT: Mr. Michael Huntley, Chief of the Vehicle and Roadside Operations Division, MC-PSV, (202) 366-5370, Federal Motor Carrier Safety Administration, 1200 New Jersey Avenue, SE., Washington, DC 20590. Office hours are from 7:45 a.m. to 4:15 p.m., e.t., Monday through Friday, except Federal holidays.

SUPPLEMENTARY INFORMATION:

Background

Section 210 of the Motor Carrier Safety Act of 1984 (49 U.S.C. 31142) (the Act) requires the Secretary of Transportation to prescribe standards for annual or more frequent inspection of CMVs unless the Secretary finds another inspection system is as effective as an annual or more frequent inspection. On December 7, 1988, in response to the Act, the Federal Highway Administration (FHWA), the agency within the Department of Transportation responsible for motor carrier safety until 1999, published a final rule amending part 396 of the FMCSRs (53 FR 49402). The final rule requires CMVs operated in interstate commerce to be inspected at least once a year. The inspection is to be based on Federal inspection standards, or a State inspection program determined by the FHWA to be comparable to, or as effective as, the Federal standards. Accordingly, if the agency determines a State's PI program is comparable to, or as effective as, the requirements of part 396, then a motor carrier must ensure all of its CMVs which are required by that State to be inspected through the State's inspection program are so inspected. If a State does not have such a program, the motor carrier is responsible for ensuring its CMVs are inspected using one of the alternatives included in the final rule.

On March 16, 1989, the FHWA published a notice in the Federal Register that requested States and other interested parties to identify and provide information on the CMV inspection programs in their respective jurisdictions (54 FR 11020). Upon review of the information submitted, the FHWA published a list of State inspection programs that were determined to be comparable to the Federal PI requirements (54 FR 50726, December 8, 1989). This initial list included 15 States and the District of Columbia. The list was revised on September 23, 1991, to include the inspection programs of the Alabama Liquefied Petroleum Gas (LPG) Board, California, Hawaii, Louisiana, Minnesota, all of the Canadian Provinces, and the Yukon Territory (56 FR 47982). On November 27, 1992, the list was revised to include the Wisconsin bus inspection program (57 FR 56400). On April 14, 1994, the list was revised to include the Texas CMV inspection program (59 FR 17829). The list was revised on November 7, 1995, to include the Connecticut bus inspection program (60 FR 56183). The most recent revision was made on February 19, 1998 to include the Ohio inspection program for church buses (63 FR 8516), and a notice announcing FMCSA's acceptance of certain enhancements to the program on June 18, 2001 (66 FR 32863).

Determination: State of Massachusetts Inspection Program

The State of Massachusetts (the State) has implemented a mandatory annual inspection requirement for all buses (vehicles designed to transport 16 or more passengers, including the driver) and trucks as part of its program to improve the safety of operation of CMVs. As of October 1, 2008, the State prohibits any person from operating CMVs that are designed to transport 16 or more passengers, including the driver, or that have a gross vehicle weight rating of 4,536 kilograms (10,001 pounds) or more, unless the vehicle displays a valid safety inspection decal (540 Code of Massachusetts Regulations [CMR] 4.00 and 310 CMR 60.02).

The FMCSA has determined that the Massachusetts inspection program in effect as of October 1, 2008, is comparable to, or as effective as, the Federal PI requirements. Therefore, motor carriers operating CMVs which are subject to the State's program and which are subject to the FMCSRs must use the State's program to satisfy the Federal PI requirements.

It should be noted that in accepting the State's PI program, FMCSA also accepts the recordkeeping requirements associated with the inspection program. Upon successful completion of the Massachusetts Commercial Motor Vehicle Safety Inspection a comprehensive Vehicle Inspection Report (VIR) is created which identifies the vehicle, inspector, and the status of the inspection. In addition to the VIR, a program inspection sticker indicating the vehicle has passed or failed the inspection will be affixed to the vehicle's windshield. For trailers, the required proof of inspection will be the VIR.

Massachusetts will also have a database of all vehicle inspections performed. The vehicle inspection information will be captured at the end of the inspection and stored for a period of five years. State officials can query the database to capture a specific inspection report, or to summarize and analyze a subset or all CMV safety inspection records.

States With Equivalent Periodic Inspection Programs

The following is a complete list of States with inspection programs that FMCSA has determined are comparable to, or as effective as, the Federal PI requirements.

Alabama (LPG Board),

California,

Connecticut,

District of Columbia,

Hawaii,

Illinois,

Louisiana,

Maine,

Maryland,

Massachusetts,

Michigan,

Minnesota,

New Hampshire,

New Jersey,

New York,

Ohio,

Pennsylvania,

Rhode Island,

Texas,

Utah,

Vermont,

Virginia,

West Virginia,

Wisconsin.

Please note that two States have been removed from the previous list of approved programs. Arkansas no longer has a periodic inspection program for buses comparable to, or as effective, as the Federal PI program. Oklahoma has repealed its inspection requirements. Both States have therefore been de-listed. As required by 49 CFR 396.23(b)(2), each motor carrier in Arkansas and Oklahoma must ensure that the periodic inspection required by 49 CFR 396.17 is performed on all CMVs under its control.

In addition to the States listed above, the FMCSA accepts the inspection programs of the 10 Canadian Provinces (Alberta, British Columbia, Manitoba, New Brunswick, Newfoundland, Nova Scotia, Ontario, Prince Edward Island, Quebec and Saskatchewan) and the Yukon Territory are comparable to, or as effective as, the Federal PI requirements. All other States either have no PI programs for CMVs or their PI programs have not been determined by the FMCSA to be comparable to, or as effective as, the Federal PI requirements. Should any of these States wish to establish a program or modify their programs in order to make them comparable to the Federal requirements, the State should contact the appropriate FMCSA division office.

List of Subjects

Highway safety, Highways and roads, Motor carriers, Motor vehicle maintenance, Motor vehicle safety, Reporting and recordkeeping requirements.

Authority: 49 U.S.C. 31132, 31136, 31142, 31502, and 31504; 49 CFR 1.73.

Issued on: October 14, 2008.
John H. Hill,
Administrator.

[FR Doc. E8-25174 Filed 10-21-08; 8:45 am]

BILLING CODE 4910-EX-P